DEPARTMENT OF COMMERCE

National Oceanic and Atmospheric Administration

[RTID 0648-XE729]

Endangered and Threatened Species; Take of Anadromous Fish

AGENCY: National Marine Fisheries Service (NMFS), National Oceanic and Atmospheric Administration (NOAA), Commerce.

ACTION: Notice; receipt of application for an enhancement permit.

SUMMARY: Notice is hereby given that NMFS has received one enhancement permit renewal application (permit 14741-2R) from the Monterey Peninsula Water Management District (District) to implement their revised Carmel River Rescue Rearing and Management Plan (RRMP). The application and RRMP have been submitted per the Endangered Species Act (ESA) of 1973, as amended. NMFS is furnishing this notice in order to allow other agencies, Tribes, and the public an opportunity to review and submit to NMFS written data, views, or arguments with respect to the taking or to other activities proposed in the application, or to request a hearing in connection with the action to be taken thereon. The documents are available on the internet at: https://apps.nmfs.noaa.gov/preview/preview_open_for_comment.cfm.

DATES: Written comments on the RRMP must be received at the appropriate address (see ADDRESSES section) no later than 5 p.m. Pacific Standard Time on April 28, 2025.

ADDRESSES: You may submit comments on the permit application by the following methods:

• Email: Submit to joel.casagrande@noaa.gov and include “Permit 1474-2R” in the subject line.

• Mail: Submit written comments to the National Marine Fisheries Service, West Coast Region, California Coastal Office, 777 Sonoma Avenue, Room 325, Santa Rosa, California 95404; Attention: Joel Casagrande.

FOR FURTHER INFORMATION CONTACT: Joel Casagrande, 707-575-6016, joel.casagrande@noaa.gov.

SUPPLEMENTARY INFORMATION:

ESA-Listed Species Covered in This Notice

Steelhead (Oncorhynchus mykiss): Threatened, South-Central California Coast (S-CCC) Distinct Population Segment.

Background

The District has applied for an enhancement permit under section 10(a)(1)(A) of the ESA for a period of 10 years that would allow take of juvenile and adult S-CCC steelhead pursuant to an RRMP, which was developed with technical assistance from NMFS. The objective of the District's program is to assist with the restoration, conservation, and maintenance of the steelhead population in the Carmel River watershed as mitigation for environmental impacts caused by diversion of surface and subsurface streamflow in the lower 24 miles of the mainstem Carmel River in Monterey County, California. The program which was initiated in 1997, was necessary to ensure compliance with California Environmental Quality Act from the environmental impacts of California American Water Company's water withdrawals.

The RRMP will be implemented as an enhancement program at the Sleepy Hollow Rearing Facility (Facility); actions taken pursuant to the permit are designed to enhance survival of S-CCC steelhead that are subject to annual low-flow river dry-back in the Carmel River and tributaries. The RRMP incorporates three main components: (1) rescue and relocation activities; (2) captive rearing activities; and (3) subsequent post-release monitoring. There is no captive spawning (i.e., artificial propagation) of steelhead held at the facility. Activities that would constitute take of S-CCC steelhead include: capture, handling and transport, tagging, and temporary rearing in captivity. The RRMP includes measures to minimize the likelihood of ecologic effects to naturally produced S-CCC steelhead resulting from operations at the Facility, and rescue and relocation activities. Post-release monitoring activities conducted by the District will collect necessary data to document achievement of performance indicators specified in the RRMP. For a more detailed discussion of these activities, please see the application 14741-2R.

Authority

Section 9 of the ESA and Federal regulations prohibit the taking of a species listed as endangered or threatened. The ESA defines “take” to mean harass, harm, pursue, hunt, shoot, wound, kill, trap, capture, or collect, or to attempt to engage in any such conduct. NMFS may issue permits for scientific purposes or for the enhancement of the propagation or survival of the affected endangered or threatened species authorizing the taking, importation, or other acts otherwise prohibited by section 9 of the ESA (50 CFR 222.308). The final permit decision will not be made until after the end of the 30-day public review period. NMFS will publish notice of its final action in the Federal Register.

Dated: March 24, 2024.
Lisa Manning,
Acting Chief, Endangered Species Division, Office of Protected Resources, National Marine Fisheries Service.

[FR Doc. 2025-05258 Filed 3-26-25; 8:45 am]

BILLING CODE 3510-22-P